CONSUMER PRODUCT SAFETY COMMISSION

Agency Information Collection Activities; Proposed Collection; Comment Request; Procedures for Export of Noncomplying Goods

AGENCY: Consumer Product Safety Commission.

ACTION: Notice.

SUMMARY: The Consumer Product Safety Commission (“CPSC” or “Commission”) is announcing an opportunity for public comment on the proposed collection of certain information by the agency. Under the Paperwork Reduction Act of 1995 (“the PRA”), Federal agencies are required to publish notice in the Federal Register concerning each proposed collection of information, including each proposed extension of an existing collection of information, and to allow 60 days for public comment in response to the notice. This notice solicits comments on the proposed extension of approval of a collection of information from manufacturers and importers of mattresses and mattress pads.

DATES: Submit written or electronic comments on the collection of information by July 19, 2010.

ADDRESSES: Submit written submissions in the following way:

Written comments should be captioned “Proposed Collection of Information—Procedures for Export of Noncomplying Goods” and e-mailed to the Office of the Secretary at cpsc-os@cpsc.gov. Comments may also be sent by facsimile to (301) 504-0127, or by Mail/Hand delivery/Courier (for paper, disk, or CD-ROM submissions), preferably in five copies, to: Office of the Secretary, Consumer Product Safety Commission, Room 502, 4330 East-West Highway, Bethesda, MD 20814; telephone (301) 504-7923.

FOR FURTHER INFORMATION CONTACT: Linda Glatz, Division of Policy and Planning, Office of Information, Technology, Consumer Product Safety Commission, 4330 East-West Highway, Bethesda, MD 20814, 301-504-7671, lglatz@cpsc.gov.

SUPPLEMENTARY INFORMATION: Under the PRA (44 U.S.C. 3501-3520), Federal agencies must obtain approval from the Office of Management and Budget (“OMB”) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, the CPSC is publishing notice of the proposed collection of information set forth in this document.

With respect to the following collection of information, the CPSC invites comments on these topics: (1) Whether the proposed collection of information is necessary for the proper performance of CPSC's functions, including whether the information will have practical utility; (2) the accuracy of CPSC's estimate of the burden of the proposed collection of information, including the validity of the methodology and assumptions used; (3) ways to enhance the quality, utility, and clarity of the information to be collected; and (4) ways to minimize the burden of the collection of information on respondents, including through the use of automated collection techniques, when appropriate, and other forms of information technology.

Title: Export of Noncomplying, Misbranded, or Banned Products—16 CFR part 1019 (OMB Control Number 3041-0003—Extension).

Description: The Commission requests comments on a proposed three year extension of approval of information collection requirements in regulations codified at 16 CFR part 1019, which establish procedures for export of noncomplying, misbranded, or banned products. These regulations implement provisions of the Consumer Product Safety Act, the Federal Hazardous Substances Act, and the Flammable Fabrics Act, as amended by the Consumer Product Safety Improvement Act (“CPSIA”). Persons and firms are required to notify the Commission before exporting any product that fails to comply with an applicable standard or regulation enforced under provisions of those laws. The Commission is required to transmit the information relating to the proposed exportation to the government of the country of intended destination. In addition, for any consumer product that is not in conformity with an applicable consumer product safety rule, exports from the United States may be prohibited unless the importing country has notified the Commission that such country accepts the importation of such consumer product. 15 U.S.C. 2067.

We estimate the burden of this collection of information as follows. Based on a review of the number of export requests received by the CPSC during the last three years, the CPSC staff estimates that approximately 44 notifications will be received from an estimated 20 firms per year. The staff further estimates that the average time for each response is one hour, for a total of 44 hours of annual burden. The annualized cost to respondents would be approximately $2,505. (44 hours at $56.93/hour based on total compensation of all management, professional, and related occupations in goods-producing industries in the United States, September 2009, Bureau of Labor Statistics.)

The estimated annual cost of the information collection requirements to the Federal government is approximately $14,000. The staff estimates that it takes about three hours to process an export notification and enter the information in the appropriate database. The receipt and processing of 44 notifications would require approximately 132 staff hours or approximately 1 staff month per year.

Dated: May 12, 2010.
Todd A. Stevenson,
Secretary, Consumer Product Safety Commission.

[FR Doc. 2010-11753 Filed 5-17-10; 8:45 am]

BILLING CODE 6355-01-P